ELECTION ASSISTANCE COMMISSION

Sunshine Act Notice

Agency: United States Election Assistance Commission.

Action: Notice of public meeting for EAC Standards Board.

Date and Time: Wednesday, December 12, 2007, 8:30 a.m.-5 p.m. and Thursday, December 13, 2007, 8:30 a.m.-5 p.m. and Friday, December 14, 2007, 8:30 a.m.-12 p.m.

Place: Omni Hotel Downtown, 700 San Jacinto Boulevard at 8th Street, Austin, TX 78701, Phone number (512) 476-3700.

Purpose: The U.S. Election Assistance Commission (EAC) Standards Board, as required by the Help America Vote Act of 2002, will meet to consider and receive presentations on the proposed next iteration of the Voluntary Voting System Guidelines (VVSG), as were submitted to EAC from the commission's Technical Guidelines Development Committee (TGDC). The Standards Board will formulate recommendations to EAC regarding the guidelines and consider other administrative matters. The EAC Board of Advisors will meet at the same time and some of the Standards Board sessions will be held jointly with the Board of Advisors.

This meeting will be open to the public.

For Further Information Contact: Bryan Whitener, Telephone: (202) 566-3100.

Thomas R. Wilkey,
Executive Director, U.S. Election Assistance Commission.

[FR Doc. 07-5637 Filed 11-7-07; 4:24 pm]

BILLING CODE 6820-KF-M